DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period November 22, 2003-December 17, 2003
Firm name | Address | Date petition accepted | Product
Gilmore Valve Co., Ltd | 1231 Lumpkin Road, Houston, TX 77043 | 12/04/03 | Hydraulic valves.
Stout Industries, Inc., dba Stout Marketing, Inc | 6425 W. Florissant Ave., St. Louis, MO 63166 | 12/04/03 | Point of sale metal signs, displays, building and canopy fascia.
William Dudek Manufacturing Company | 4901 W. Armitage Avenue, Chicago, IL 60639 | 12/04/03 | Mounting brackets of steel for consumer articles.
Delta Machine and Tool, Inc | 1501 Lexington Avenue, DeLand, FL 32724 | 12/08/03 | Diagnostic lancets for diabetic testing kits, custom plastic-injection molded; and injection molded bodies for surgical punches used in cardiac surgery.
Burgess Manufacturing of Oklahoma, Inc | 1250 Roundhouse Road, Guthrie, OK 73044 | 12/17/03 | Wooden pallets.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: December 16, 2003.
Anthony J. Meyer,
Coordinator, Trade Adjustment and Technical Assistance.

[FR Doc. 03-31523 Filed 12-22-03; 8:45 am]

BILLING CODE 3510-24-P